INTERNATIONAL TRADE COMMISSION

[Investigation No. 337-TA-1427]

Certain Components for Injection Molding Machines, and Products Containing the Same; Notice of a Commission Determination To Issue a Limited Exclusion Order; Termination of Investigation

AGENCY: U.S. International Trade Commission.

ACTION: Notice.

SUMMARY: Notice is hereby given that the U.S. International Trade Commission (“Commission”) has determined to issue a limited exclusion order (“LEO”) barring entry of certain components for injection molding machines, and products containing the same by or on behalf of respondent Ningbo AO Sheng Mold Co., Ltd., d/b/a AOSIMI (“AOSIMI”) previously found to be in default. The investigation is terminated.

FOR FURTHER INFORMATION CONTACT: Paul Lall, Office of the General Counsel, U.S. International Trade Commission, 500 E Street SW, Washington, DC 20436, telephone (202) 205-2043. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On December 18, 2024, the Commission instituted this investigation under section 337 of the Tariff Act of 1930, as amended, 19 U.S.C. 1337 (“section 337”), based on a complaint filed by Husky Injection Molding Systems Ltd. of Bolton, Ontario, Canada and Husky Injection Molding Systems, Inc. of Milton, Vermont (collectively, “Complainants”). See 89 FR 102953-54 (Dec. 18, 2024). The complaint alleges violations of section 337 based upon the importation into the United States, the sale for importation, and the sale within the United States after importation of certain components for injection molding machines, and products containing the same by reason of the infringement of certain claims of U.S. Patent Nos. 9,713,891; 11,794,375; 10,093,053; 8,834,149 and 7,645,132 (the “Asserted Patents”). Id. at 102953. The Commission's notice of investigation (“NOI”) named AOSIMI of Yuyao, Zhejiang, China as the sole respondent. Id. at 102954. The Office of Unfair Import Investigations was not named as a party.

On January 24, 2025, the Chief Administrative Law Judge issued an order directing AOSIMI to show cause, no later than February 7, 2025, why it should not be found in default for failing to respond to the complaint and NOI. See Order No. 5 (January 24, 2025), at 3. AOSIMI did not respond to the order to show cause.

On February 28, 2025, the Commission issued a notice determining AOSIMI to be in default. See Order No. 7 (February 14, 2025), unreviewed by Comm'n Notice, 90 FR 11437-38 (Feb. 28, 2025) (the “Remedy Notice”). In the same notice, the Commission asked parties to the investigation, interested government agencies, and any other interested parties to file written submissions on the issues of remedy, the public interest, and bonding. Id. On March 14, 2025, Complainants filed a written submission, requesting the Commission to issue a limited exclusion order (“LEO”) and a cease and desist order against AOSIMI. The Commission received no other written submissions in response to the Remedy Notice.

When the conditions in section 337(g)(1)(A)-(E) (19 U.S.C. 1337(g)(1)(A)-(E)) have been satisfied, section 337(g)(1) and Commission Rule 210.16(c) (19 CFR 210.16(c)) direct the Commission, upon request, to issue a limited exclusion order or a cease and desist order or both against a respondent found in default, based on the allegations regarding a violation of section 337 in the Complaint, which are presumed to be true, unless after consideration of the public interest factors in section 337(g)(1), it finds that such relief should not issue.

Having examined the record of this investigation, including the Complainants' submission in response to the Remedy Notice, the Commission has determined, pursuant to section 337(g)(1) (19 U.S.C. 1337(g)(1)), that the appropriate remedy in this investigation is an LEO prohibiting the unlicensed entry of certain components for injection molding machines, and products containing the same by reason of the infringement of certain claims of the Asserted Patents. The Commission has determined that the public interest factors enumerated in subsection 337(g)(1) do not preclude the issuance of the requested LEO. Although Complainants requested the Commission to issue a cease and desist order (“CDO”) directed to AOSIMI, the Commission has determined not to issue the requested CDO because of the lack of evidence or allegations that AOSIMI maintains commercially significant inventories and/or engages in significant commercial operations in the United States.

Chair Karpel agrees that section 337(g)(1) is the appropriate authority for issuance of relief in this investigation but disagrees with the determination not to issue the CDO requested by Complainants. Specifically, Chair Karpel supports issuance of both the requested LEO and the requested CDO against AOSIMI because the criteria for issuance of such relief under section 337(g)(1)(A)-(E) are met as to AOSIMI. (19 U.S.C. 1337(g)(1)(A)-(E); see Order No. 7 (February 14, 2025), unreviewed by Comm'n Notice, 90 FR 11437-38 (Feb. 28, 2025). Here, in addition to an exclusion order, Complainants have requested a CDO as to AOSIMI in their remedy submission before the Commission. Given that sections 337(g)(1)(A)-(E) are satisfied, in Chair Karpel's view, the statute directs the Commission to issue the requested CDO, subject to consideration of the public interest. Chair Karpel further finds that the public interest factors enumerated in section 337(g)(1) do not preclude the issuance of the CDO directed to AOSIMI. Accordingly, Chair Karpel supports issuance of the CDO, in addition to the issuance of the LEO discussed above, under section 337(g)(1).

The Commission has further determined that the bond during the period of Presidential review pursuant to section 337(j) (19 U.S.C. 1337(j)) shall be in the amount of one hundred percent (100%) of the entered value of the imported articles that are subject to the LEO.

The investigation is terminated.

The Commission's vote for this determination took place on April 15, 2025.

The authority for the Commission's determination is contained in section 337 of the Tariff Act of 1930, as amended (19 U.S.C. 1337), and in part 210 of the Commission's Rules of Practice and Procedure (19 CFR part 210).

By order of the Commission.
Issued: April 15, 2025.
Lisa Barton,
Secretary to the Commission.

[FR Doc. 2025-06719 Filed 4-17-25; 8:45 am]

BILLING CODE 7020-02-P